Title 3—

The President

Proclamation 7390 of January 12, 2001

Martin Luther King, Jr., Federal Holiday, 2001

By the President of the United States of America

A Proclamation

Seventy-two years ago, Martin Luther King, Jr., was born into a sharply divided Nation, a place where the color of a child's skin too often determined that child's destiny. America was a place where segregation and discrimination put limits on a black child's dreams, opportunities, and future.

Dr. King led America to a better place. With eloquence, he articulated the struggles and hopes of generations of African Americans. With the power of his leadership, he rallied Americans of every race and creed to join together in the march for justice. With courage, conviction, and faith in God, he sought to make real in everyday practice—in schools, in the workplace, in public accommodations, and in the hearts and minds of his fellow citizens—the civil rights victories that had been won in the courts.

Although his life was cruelly cut short before his mission was complete, he helped put our Nation firmly on the right path, where the ideals of liberty, equality, brotherhood, and justice are not merely words on a page, but values honored by all. “Our freedom was not won a century ago,” he said in 1968, “it is not won today; but some small part of it is in our hands, and we are marching no longer by ones and twos but in legions of thousands, convinced now it cannot be denied by any human force.”

It is up to each of us to continue that march. The gallant freedom riders and freedom fighters of the civil rights era are growing older, and many, like Martin Luther King, Jr., are no longer among us. But their work must go on. There are still too many in our Nation who do not share equally in America's prosperity; minority unemployment and poverty rates, while decreasing, are still far above the national average; and the technical skills and resources needed for success in the global economy are still out of reach for hundreds of thousands of young Americans growing up in disadvantaged communities.

I encourage my fellow Americans to use this holiday, dedicated to the memory of Dr. Martin Luther King, Jr., and to his spirit of service, not as a day off, but rather as a day to make a difference in the lives of others—an opportunity to recognize where we have fallen short, to reach out to those who have been left behind, and to remove the barriers that keep us from becoming the promised land that Dr. King envisioned.

NOW, THEREFORE, I, WILLIAM J. CLINTON, President of the United States of America, by virtue of the authority vested in me by the Constitution and laws of the United States, do hereby proclaim Monday, January 15, 2001, as the Martin Luther King, Jr., Federal Holiday. I call upon all Americans to observe this occasion with appropriate programs, ceremonies, and activities in honor of Dr. King's life and achievements and in response to his call to service.

IN WITNESS WHEREOF, I have hereunto set my hand this twelfth day of January, in the year of our Lord two thousand one, and of the Independence of the United States of America the two hundred and twenty-fifth.

[FR Doc. 01-1735

Filed 1-17-01; 8:45 am]

Billing code 3195-01-P